DEPARTMENT OF THE INTERIOR

National Park Service

Notice of Availability (NOA) for a Draft Environmental Impact Statement

AGENCY: National Park Service, Interior.

SUMMARY: This notice is being published in accordance with 40 CFR 1506.6. Pursuant to section 102(2)(c) of the National Environmental Policy Act of 1969, the U.S. Department of the Interior, National Park Service (NPS) has prepared a Draft Environmental Impact Statement (DEIS) for the Feasibility Study (Special Resource Study) on the Preservation of Civil War Battlefields and Related Historic Sites along the Vicksburg Campaign Trail (VCT) in Arkansas, Louisiana, Mississippi, and Tennessee. More than 500 sites were examined with a view to how they might best be preserved and linked together into the Vicksburg Campaign Trail Initiative. The study process evaluated the national significance, suitability, feasibility, and management options for each identified site according to NPS standards and criteria established by the Civil War Sites Advisory Commission Report on the Nation's Civil War Battlefields (1993).

Experts and professional historians evaluated each site to determine whether it qualifies as Tier One (Decisive-Major), Tier Two (Formative), or Tier Three (Limited) as well as Associated Sites (non-battlefield) and submerged resources. Decisive battles (Tier One sites) had a direct, observable impact on the direction, duration, conduct, or outcome of the Civil War. Major battles (also Tier One) had a direct, observable impact on the direction, duration, conduct, or outcome of the Vicksburg Campaign. Formative battles (Tier Two sites) had an observable influence on the direct, duration, or conduct of the Vicksburg Campaign. Tier Three (Limited) sites typically involved detachments of the field armies, in which a commander achieved a limited tactical objective of reconnaissance, defense, or occupation, without observable influence on the direction of the campaign. The study identified 19 Tier One, 26 Tier Two, 131 Tier Three, and numerous associated sites, for a total of over 500 sites included in the Vicksburg Campaign Trail.

Based on this evaluation, some Tier One sites have been recommended for addition to the National Park System. Protection and interpretation of sites not recommended for addition to the National Park System will be sought via other arrangements that may include management by other Federal agencies, State or local governments, non-profit organizations or private owners. These different management options form the basis for three alternatives, the environmental impacts of which are analyzed in the DEIS:

Alternative A: No Action. The Federal Government/NPS would take no action to enhance the preservation of battlefields and other historic sites and resources associated with the Vicksburg Campaign Trail. No new sites among the over 500 identified Tier One, Two, Three, and associated properties would be added to the National Park System and no Federal efforts would be undertaken to link individual sites into a campaign trail initiative.

Alternative B: Limited Preservation—Tier One Actions. The NPS would engage in the protection/preservation of all sites associated with the Vicksburg Campaign Trail that have been recognized as being nationally significant, i.e. the Tier One Sites. Actions would range from direct acquisition by the NPS of some sites (such as Fort Heiman, now in private ownership) to assisting other managing authorities in the protection and preservation of other sites (e.g. Fort Pillow). While the Tier One sites would be acknowledged and linked, no formal VCT Initiative would be established.

Alternative C: Comprehensive Preservation—The Vicksburg Campaign Trail Initiative. This is the preferred alternative and constitutes the recommendation of the Feasibility Study. All sites associated with the Vicksburg Campaign Trail would be linked in a formally designated VCT Initiative. As with Alternative B, Alternative C would seek to protect some nationally significant (Tier One) sites by addition to the National Park System.

Environmentally Preferred Alternative. Alternative A would generally not meet NEPA's goals. It allows for significant, irreplaceable historic resources to be degraded or lost. While both Alternatives B and C would contribute substantially to meeting the NEPA goals, Alternative C is the environmentally preferred alternative. Alternative C would achieve the most at preserving important historic and cultural aspects of our national heritage along the Vicksburg Campaign Trail, as well as providing for greater enhancement of the visitor experience than Alternative B.

DATES: As part of its efforts to comply with NEPA, gather input from the public, determine which issues to address in the EIS, and inform the public, agencies, and stakeholders of its ideas and options for the Vicksburg Campaign Trail, the NPS conducted a series of public scoping meetings in 2002. Meetings were conducted at the following locations and dates: Helena, Arkansas—March 4, 2002, Grenada, Mississippi—March 5, 2002, Jackson, Mississippi—March 6, 2002, Tallulah, Louisiana—March 7, 2002, Baton Rouge, Louisiana—March 8, 2002, Dover, Tennessee—May 29, 2002, Murray, Kentucky—May 29, 2002, and Pickwick Landing State Park, Tennessee—May 30, 2002. Copies of the Draft Environmental Impact Statement will be available at the following locations: Vicksburg National Military Park, 3201 Clay Street, Vicksburg, Mississippi 39183; Shiloh National Military Park, 1055 Pittsburg Landing Road, Shiloh, Tennessee 38376; Arkansas Post National Memorial, 1741 Old Post Road, Gillet, Arkansas 72005; and, Fort Donelson National Battlefield, P.O. Box 434, 174 National Cemetery Drive, Dover, Tennessee 37058.

This Feasibility Study will be published on the Web at http://planning.nps.gov/plans1.cfm.

ADDRESSES: Comments on the Vicksburg Campaign Trail Feasibility Study Draft Environmental Impact Statement should be directed to Bill Koning, National Park Service, Denver Service Center, P.O. Box 25287, 12795 W. Alameda Parkway, Denver, Colorado 80225-0287.

FOR FURTHER INFORMATION CONTACT: Requests for information concerning the feasibility study and DEIS should be directed to Superintendent, Vicksburg National Military Park, 3201 Clay Street, Vicksburg, Mississippi 39183, (601) 636-0583, or Bill Koning, National Park Service, Denver Service Center, P.O. Box 25287, 12795 W. Alameda Parkway, Denver, Colorado 80225-0287, (303) 969-2390.

SUPPLEMENTARY INFORMATION: On July 4, 1863, after an eight-month campaign and siege, heavily-fortified Vicksburg, Mississippi capitulated to Federal forces commanded by General Ulysses S. Grant. This surrender gave the Union control of the Lower Mississippi River and effectively cut the Confederate States of America in half. It was regarded by many at the time, including President Abraham Lincoln, as one of the pivotal events of that great conflict; contemporary Civil War historians continue to regard it in that light. Grant's monumental campaign to capture the “Gibraltar of the Confederacy” is seen by military historians as a brilliant logistical exhibition, encompassing long and difficult flanking maneuvers, cavalry raids, pitched battles, naval engagements, and siege warfare. Grant's triumph at Vicksburg paved the way for his subsequent battles at Chattanooga in November 1863, and then—as commander of all Union armies—at the Wilderness and Petersburg. Ultimately, it made possible his eventual election as President of the United States.

In November 2000, Pub. L. 106-487 authorized a feasibility study of the preservation of Civil War battlefields along the Vicksburg Campaign Trail. The task is to examine and evaluate a variety of sites in states associated with the Civil War events of the Vicksburg Campaign. The feasibility study was to be completed within three years and was to examine a large number and wide variety of sites in Arkansas, Louisiana, Mississippi, and Tennessee. A technical correction is pending before Congress to add the Commonwealth of Kentucky to the study. Each site would be evaluated for national significance, as well as the suitability and feasibility of adding it to the National Park System. The DEIS now available for public review and comment analyzes the potential environmental effects of different management options for the sites found to be eligible for inclusion in the National Park System.

The legislation also directed (a) a review of current NPS programs, policies, and criteria to determine the most appropriate means of preservation; (b) evaluations for the establishment of a site and management entity consisting of a unit of government or private non-profit organization; and (c) recommendations to the states regarding the management, preservation, and interpretation of natural, cultural and historical resources associated with the various sites. Furthermore, the legislation directed that partnerships among Federal, state, and local governments, regional entities, and the private sector be identified to provide an effective means of preserving specific battlefield sites. Finally, the legislation required that methods of ensuring continued local involvement in the management of battlefield sites be explored.

Anonymous comments will not be considered. We will make all submissions from organizations or businesses, and from individuals identifying themselves as representatives or officials of organizations or businesses, available for public inspection in their entirety. However, individual respondents may request that we withhold their names and addresses from the public record, and we will honor such requests to the extent allowed by law. If you wish to withhold your name and/or address, you must state that request prominently at the beginning of your comment. Please note that due to public disclosure requirements, the NPS, if requested, may have to make the names and addresses of those who submit written comments public.

The responsible official for this DEIS is the Regional Director, National Park Service, Southeast Region, 100 Alabama Street, SW., Atlanta, Georgia 30303.

Dated: March 11, 2004.
Patricia A. Hooks,
Regional Director, NPS, Southeast Region.

[FR Doc. 04-9348 Filed 4-23-04; 8:45 am]

BILLING CODE 4310-70-P